DEPARTMENT OF THE INTERIOR

National Indian Gaming Commission

Fee Rate

Correction

In notice document 2013-05334, appearing on page 14821 in the issue of Thursday, March 7, 2013, make the following correction:

On page 14821, in the second column, in the eighth line from the bottom of the page, “Dated: March 4, 3013.” should read “Dated: March 4, 2013.”.

[FR Doc. C1-2013-05334 Filed 3-12-13; 8:45 am]

BILLING CODE 1505-01-D